DEPARTMENT OF STATE

[Public Notice 5386]

Shipping Coordinating Committee; Notice of Meeting

The Shipping Coordinating Committee (SHC) will conduct an open meeting at 1 p.m. on Thursday, June 22, 2006, in Room 6319 of the United States Coast Guard Headquarters Building, 2100 2nd Street SW., Washington, DC 20593-0001. The primary purpose of the meeting is to complete preparations for the 49th Session of the International Maritime Organization (IMO) Sub-Committee on Stability and Load Lines and on Fishing Vessels Safety to be held at IMO Headquarters in London, England from July 24th to 28th.

The primary matters to be considered include:

—Development of explanatory notes for harmonized SOLAS Chapter II-1;

—Passenger ship safety;

—Review of the Intact Stability Code;

—Safety of small fishing vessels;

—Tonnage measurement of open-top containerships;

—Review of the SPS Code.

Members of the public may attend this meeting up to the seating capacity of the room.

Interested persons may seek information by writing to Mr. Paul Cojeen, Commandant (G-PSE), U.S. Coast Guard Headquarters, 2100 Second Street SW., Room 1308, Washington, DC 20593-0001 or by calling (202) 267-2988.

Dated: April 27, 2006.
Clay L. Diamond,
Executive Secretary, Shipping Coordinating Committee, Department of State.

[FR Doc. E6-7580 Filed 5-17-06; 8:45 am]

BILLING CODE 4710-09-P